DEPARTMENT OF ENERGY

Federal Energy Regulatory Commission

[Docket No. CP05-32-000]

Northwest Pipeline Corporation; Notice of Application for Certificate of Public Convenience and Necessity and Approval for Abandonment

December 8, 2004.

Take notice that on November 29, 2004, Northwest Pipeline Corporation (Northwest), 295 Chipeta Way, Salt Lake City, Utah 84158 filed with the Federal Energy Regulatory Commission an application under section 7 of the Natural Gas Act (NGA) and Part 157 of the Commission's regulations for its “Capacity Replacement Project”, located in western Washington, requesting the Commission to grant: (i) Permission and approval to abandon approximately 268 miles of 26-inch pipeline and related facilities between Sumas and Washougal, Washington (Sumas-Washougal corridor); and (ii) a certificate of public convenience and necessity authorizing Northwest to construct and operate approximately 79.5 miles of 36-inch pipeline to partially loop Northwest's 30-inch pipeline in the Sumas-Washougal corridor, 10,760 (ISO) net horsepower of additional compression at the existing Chehalis and Washougal compressor stations, and related facilities, to replace most of the approximately 360 MDth/d of Sumas-Washougal corridor capacity attributable to the 26-inch pipeline. In addition, Northwest seeks authority to abandon a portion of the capacity along the corridor that Northwest states is not needed at this time.

Northwest states that it developed its Capacity Replacement Project in response to an amended Corrective Action Order (CAO) issued by the Office of Pipeline Safety (OPS), which requires Northwest to permanently abandon its 26-inch pipeline in the Sumas-Washougal corridor, and install replacement facilities as necessary to meet future capacity requirements. Northwest states that the estimated total cost of the proposed Capacity Replacement Project is approximately $333.1 million.

The application is on file with the Commission and open to public inspection. The filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any questions regarding these applications should be directed to Gary K. Kotter, Manager, Certificates and Tariffs—3F3, Northwest Pipeline Corporation, P.O. Box 58900, Salt Lake City, Utah 84158-0900. Telephone: (801) 584-7117, Fax: (801) 584-7764.

On May 12, 2004 the Commission staff granted Northwest's request to utilize the National Environmental Policy Act (NEPA) Pre-Filing Process and assigned Docket No. PF04-10-000 to staff activities involving Northwest. Now, as of the filing of Northwest's applications on November 29, 2004, the NEPA Pre-Filing Process for those projects has ended. From this time forward, Northwest's proceeding will be conducted in Docket Nos. CP05-32-000, as noted in the caption of this Notice.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filings to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF04-10-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

The Commission strongly encourages electronic filings of comments, protests, and interventions via the Internet in lieu of paper. See 18 CFR 385.2001(a)(1)(iii) and the instructions on the Commission's Web site (http://www.ferc.gov) under the “e-Filing” link.

Comment Date: December 29, 2004.

Magalie R. Salas,
Secretary.

[FR Doc. E4-3672 Filed 12-14-04; 8:45 am]

BILLING CODE 6717-01-P